DEPARTMENT OF THE INTERIOR

Fish and Wildlife Service

Issuance of Permits

AGENCY: Fish and Wildlife Service, Interior.

ACTION: Notice of decision and availability of decision documents.

SUMMARY: Between November 23, 2002, and July 17, 2003, the Pacific Region of the Fish and Wildlife Service (we, the Service) issued nine permits in response to applications for incidental take of threatened and endangered species, pursuant to sections 10(a)(1)(B) and 10(a)(1)(A) of the Endangered Species Act of 1973, as amended (Act). Copies of the permits and associated decision documents are available upon request.

ADDRESSES: Documents are available from the U.S. Fish and Wildlife Service, 911 NE. 11th Avenue, Portland, Oregon 97232; facsimile (503) 231-6243. Charges for copying, shipping and handling may apply.

FOR FURTHER INFORMATION CONTACT: If you would like copies of any of the above documents, please contact Shelly McKeever, Administrative Assistant, at telephone (503) 231-6241.

SUPPLEMENTARY INFORMATION: Section 9 of the Act and Federal regulations prohibit the take of wildlife species listed as endangered or threatened. The term “take” means to harass, harm, pursue, hunt, shoot, wound, kill, trap, capture, or collect listed wildlife, or to attempt to engage in any such conduct. The Service may, under limited circumstances, issue permits to authorize take that is incidental to, and not the purpose of, carrying out an otherwise lawful activity. Regulations governing permits for threatened and endangered species are found in 50 CFR 17.32 and 17.22.

Although not required by law or regulation, it is Service policy to notify the public of its permit application decisions. Between November 23, 2002, and July 17, 2003, we issued the following permits within the Pacific Region of the Service for incidental take of threatened and endangered species subject to certain conditions set forth therein, pursuant to section 10(a)(1)(B) and section 10(a)(1)(A) of the Act. We issued each permit after determining that: (1) The permit application was submitted in good faith; (2) all permit issuance criteria were met, including the requirement that granting the permit will not jeopardize the continued existence of listed species; and (3) the permit was consistent with the purposes and policy set forth in the Act and applicable regulations, including a thorough review of the environmental effects of the action and alternatives pursuant to the National Environmental Policy Act of 1969.

Approved plan or agreement | Permit No. | Issuance date
Habitat Conservation Plans:
Gosnell Residential | TE063835-0 | 12/23/02
Antelope Road | TE066470-0 | 12/31/02
Folsom Professional Centre | TE072797-0 | 06/25/03
Natomas Basin (3 permits) | TE073663-0 | 06/27/03
| TE073665-0 |
| TE073667-0 |
Safe Harbor Agreements:
The Island of Molokai | TE062124-0 | 04/07/03
Paramount Farms | TE048469-0 | 04/24/03
Robert Mondavi Winery | TE056595-0 | 07/17/03

Copies of these permits, the accompanying Habitat Conservation Plan or Safe Harbor Agreement, and associated documents are available upon request. Decision documents for each permit include a Findings and Recommendation; a Biological Opinion; and either a Record of Decision, Finding of No Significant Impact, or an Environmental Action Statement. Associated documents may also include an Implementing Agreement, Environmental Impact Statement, or Environmental Assessment, as applicable.

Dated: September 8, 2003.
D. Kenneth McDermond,
Deputy Manager, California/Nevada, Operations Office, Sacramento, California.

[FR Doc. 03-23356 Filed 9-12-03; 8:45 am]

BILLING CODE 4310-55-P